ENVIRONMENTAL PROTECTION AGENCY

[EPA-HQ-OECA-2014-0084; FRL-9989-98-OEI]

Information Collection Request Submitted to OMB for Review and Approval; Comment Request; NESHAP for Coke Oven Pushing, Quenching, and Battery Stacks (Renewal)

AGENCY: Environmental Protection Agency (EPA).

ACTION: Notice.

SUMMARY: The Environmental Protection Agency (EPA) has submitted an information collection request (ICR), NESHAP for Coke Oven Pushing, Quenching, and Battery Stacks (EPA ICR Number 1995.07, OMB Control Number 2060-0521), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 17, 2019.

ADDRESSES: Submit your comments, referencing Docket ID Number EPA-HQ-OECA-2014-0084, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit: http://www.epa.gov/dockets.

Abstract: The National Emission Standards for Hazardous Air Pollutants (NESHAP) for Coke Oven Pushing, Quenching, and Battery Stacks (40 CFR part 63, subpart CCCCC) apply to pushing, soaking, quenching, and battery stacks on both existing and new coke oven batteries (coke plants) that are major sources of hazardous air pollutant (HAP) emissions. New facilities include those that commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart CCCCC.

Form Numbers: None.

Respondents/affected entities: Owners or operators of coke oven batteries at coke plants that are a major source of HAP.

Respondent's obligation to respond: Mandatory (40 CFR 63, Subpart CCCCC).

Estimated number of respondents: 16 (total).

Frequency of response: Initially, occasionally, quarterly and semi-annual.

Total estimated burden: 27,200 hours (per year). Burden is defined at 5 CFR 1320.3(b).

Total estimated cost: $3,240,000 (per year), which includes $143,000 in annualized capital/startup and/or operation & maintenance costs.

Changes in the Estimates: There is an adjustment increase in the respondent burden as currently identified in the OMB Inventory of Approved Burdens. This increase is not due to any program changes. The increase in estimated respondent burden is due to adjustment to more accurately reflect the burden associated with rule requirements for observations of opacity prior to pushing coke from an oven. The previous ICR included an assumption that the burden for one respondent could not be attributed to the rule based on voluntary monitoring conducted prior to the final rule, and included person-hrs for this activity based on the assumption that each coke plant has 2.8 batteries. This ICR estimates burden for all respondents and adjusts the person-hrs to reflect one hour per battery per coke plant per day, assuming 3.1 batteries per coke plant, based on new data provided by Agency experts and confirmed by industry representatives.

The total annual responses have decreased due to a decrease in the number of respondents, based on the closure of one facility in the past three years, as identified by Agency experts and confirmed by trade associations and facility representatives. There is also an adjustment decrease in operating and maintenance costs, which is due to the decrease in the number of respondents.

Finally, there is a decrease in Agency burden from the prior ICR, due to an adjustment to more accurately reflect the rule requirements for quarterly reporting, which apply only to coke plants utilizing by-product recovery ovens. The previous ICR included an assumption that all coke plants, including those with non-recovery batteries, would submit the quarterly report. This ICR includes the burden only for those coke plants using by-product recovery ovens.

Courtney Kerwin,
Director, Regulatory Support Division.

[FR Doc. 2019-05008 Filed 3-15-19; 8:45 am]

BILLING CODE 6560-50-P